DEPARTMENT OF ENERGY

Federal Energy Regulatory Commission

[Project No. 7186-054]

Missisquoi, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 7186-054.

c. Date Filed: September 30, 2022.

d. Applicant: Missisquoi, LLC.

e. Name of Project: Sheldon Springs Hydroelectric Project.

f. Location: On the Missisquoi River in Franklin County, Vermont. The project does not occupy any federal land.

g. Filed Pursuant to: Federal Power Act, 16 U.S.C. 791(a)-825(r).

h. Applicant Contact: Mr. Kevin Webb, Licensing Manager, Missisquoi, LLC, 670 N Commercial St., Suite 204, Manchester, NH 03101; Phone at (978) 935-6039, or email at kwebb@centralriverspower.com.

i. FERC Contact: John Baummer at (202) 502-6837, or john.baummer@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 29, 2022.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the project name and docket number on the first page: Sheldon Springs Hydroelectric Project (P-7186-054).

m. The application is not ready for environmental analysis at this time.

n. Project Description: The existing Sheldon Springs Hydroelectric Project consists of: (1) a 283-foot-long, 35.5-foot-high concrete overflow Ambursen-type buttress dam that includes a 262-foot-long spillway with 2-foot-high wooden flashboards and a 16-foot-long, 8-foot-high hydraulically operated flap gate; (2) an impoundment with a surface area of approximately 175 acres; (3) the Main Powerhouse containing two identical vertical Kaplan turbine-generator units with a total capacity of 20,500 kilowatts (kW); (4) the South Mill Powerhouse that includes a 1,000-kW Francis-type turbine-generator unit; (5) the Grinder Room Powerhouse that includes two Francis-type turbine-generator units with a total capacity of 3,300 kW; (6) a 165-kW Kaplan turbine-generator unit located in one of the dam's Ambursen bays; (7) two transmission lines; and (8) appurtenant facilities. The project creates an approximately 4,700-foot-long bypassed reach of the Missisquoi River.

Missisquoi, LLC voluntarily operates the project in a run-of-river mode such that outflow from the project approximates inflow. The minimum and maximum hydraulic capacities of the powerhouses are 70 and 3,342 cubic feet per second (cfs), respectively. The average annual generation of the project was approximately 69,277 megawatt-hours from 2010 to 2020.

For the purpose of protecting aquatic resources, Article 35 of the current license requires Missisquoi, LLC to release: (1) a minimum flow of 70 cfs or inflow, whichever is less, to the bypassed reach; (2) a minimum flow of 270 cfs or inflow, whichever is less, as measured immediately below the tailrace of the South Mill Powerhouse; and (3) a minimum flow of 285 cfs or inflow, whichever is less, as measured immediately below the tailrace of the Main Powerhouse.

The applicant proposes to: (1) operate the project in a run-of-river mode; (2) release a 70-cfs minimum bypassed reach flow or inflow, whichever is less; (3) release a 285-cfs minimum flow downstream of the South Mill Powerhouse or inflow, whichever is less; (4) implement an impoundment refill procedure, in the event of a drawdown of the impoundment, whereby 90 percent of inflow is passed downstream and 10 percent of inflow is used to refill the impoundment; (5) release approximately 13 cfs over the flashboard crest from 7:00 a.m. to 8:00 p.m. from May 1 to October 31; (6) develop an operation compliance monitoring plan; (7) install a 400-foot-long path from the canoe portage takeout to a public road; (8) install a two-car parking area for canoe portage; (9) improve the existing whitewater boating access points; and (10) implement erosion control measures to protect cultural resources.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

You may also register online at https://ferconline.ferc.gov/FERCOnline.aspx to be notified via email of new filings and issuances related to this or other pending projects. For assistance, contact FERC Online Support.

p. Procedural Schedule: The application will be processed according to the following preliminary schedule. Revisions to the schedule will be made as appropriate.

Issue Deficiency Letter and Request Additional Information: November 2022

Issue Scoping Document 1 for comments: February 2023

Request Additional Information (if necessary): March 2023

Issue Acceptance Letter: March 2023

Issue Scoping Document 2 (if necessary): April 2023

Issue Notice of Ready for Environmental Analysis: April 2023

q. Final amendments to the application must be filed with the Commission no later than 30 days from the issuance date of the notice of ready for environmental analysis.

Dated: October 14, 2022.
Kimberly D. Bose,
Secretary.

[FR Doc. 2022-22774 Filed 10-19-22; 8:45 am]

BILLING CODE 6717-01-P